FEDERAL RETIREMENT THRIFT INVESTMENT BOARD

Sunshine Act Notice

Time and Date: 10 a.m. (EST), January 4, 2006.

Place: 4th Floor Conference Room, 1250 H Street, NW., Washington, DC.

Status: Closed to the public.

Matters to Be Considered:

• Personnel matters.

Contact Person For More Information: Thomas J. Trabucco, Director, Office of External Affairs, (202) 942-1640.

Dated: December 27, 2006.
Elizabeth S. Woodruff,
Secretary to the Board, Federal Retirement Thrift Investment Board.

[FR Doc. 05-24674 Filed 12-27-05; 4:05 pm]

BILLING CODE 6760-01-P